DEPARTMENT OF STATE

[Public Notice: 12431]

Foreign Affairs Policy Board Meeting Notice; Closed Meeting

In accordance with section 10(a)(2) of the Federal Advisory Committee Act, 5 U.S.C. 1009(a)(2), the Department of State announces a meeting of the Foreign Affairs Policy Board to take place on July 15-16, 2024, at the Department of State, Washington, DC.

The Foreign Affairs Policy Board provides the Secretary of State with independent, informed advice and opinion concerning matters of U.S. foreign policy. The Foreign Affairs Policy Board will review and assess: (1) Role and Reform of International Financial Institutions; (2) Risks and Opportunities Presented by PRC Overcapacity; (3) Planning for Policy Risks and Opportunities; and (4) The World in 2050. Pursuant to section 10(d) of the Federal Advisory Committee Act and 5 U.S.C. 552b(c)(1), it has been determined that this meeting will be closed to the public as the Board will be reviewing and discussing matters properly classified in accordance with Executive Order 13526.

For more information, contact Leslie Thompson at the Department of State, Washington, DC 20520, telephone: (202) 647-4702.

Salman S. Ahmed,
Director of Policy Planning, Department of State.

[FR Doc. 2024-13149 Filed 6-13-24; 8:45 am]

BILLING CODE 4710-10-P